DEPARTMENT OF AGRICULTURE

Food and Nutrition Service

Agency Information Collection Activities: Proposed Collection; Comment Request—WIC Program Regulations—Reporting and Recordkeeping Burden

AGENCY: Food and Nutrition Service (FNS), USDA.

ACTION: Notice.

SUMMARY: In accordance with the Paperwork Reduction Act of 1995, this notice invites the general public and other public agencies to comment on this proposed information collection. This collection is a revision to a currently approved information collection in the Special Supplemental Nutrition Program for Women, Infants and Children (WIC) Regulations (7 CFR part 246) for the reporting and recordkeeping burdens associated with the WIC Program regulations.

DATES: Written comments must be received by October 22, 2012.

ADDRESSES: Comments may be sent via email to wichq-web@fns.usda.gov. Comments will also be accepted through the Federal eRulemaking Portal. Go to http://www.regulations.gov, and follow the online instructions for submitting comments electronically. In all cases, including when comments are sent via email, please label your comments as “Proposed Collection of Information: WIC Program.”

All responses to this notice will be summarized and included in the request for OMB approval, and will become a matter of public record.

FOR FURTHER INFORMATION CONTACT: Requests for additional information or copies of the information collection form and instructions should be directed to: Donna Hines, Donna.Hines@fns.usda.gov or (703) 305-2714.

SUPPLEMENTARY INFORMATION: Comments are invited on: (a) Whether the proposed collection of information is necessary for the proper performance of the functions of the agency, including whether the information will have practical utility; (b) the accuracy of the agency's estimate of the burden of the proposed collection of information, including the validity of the methodology and assumptions used; (c) ways to enhance the quality, utility and clarity of the information to be collected; and (d) ways to minimize the burden of the collection of information on those who are to respond, including through the use of appropriate automated, electronic, mechanical, or other technological collection techniques or other forms of information technology.

Title: WIC Program Regulations—Reporting and Recordkeeping Burden.

OMB Number: 0584-0043.

Expiration Date: November 30, 2012.

Type of Request: Revision to a Currently Approved Collection.

Abstract: The purpose of the Special Supplemental Nutrition Program for Women, Infants and Children (WIC) is to provide supplemental foods, nutrition education, and health care referrals to low income, nutritionally at risk pregnant, breastfeeding and postpartum women, infants, and children up to age five. Currently, WIC operates through State health departments in 50 States, the District of Columbia, Puerto Rico, Guam, the Commonwealth of the Northern Mariana Islands, America Samoa, and the Virgin Islands. Additionally, 34 Indian Tribal Organizations (ITOs) serve as WIC State agencies. The Federal regulations governing the WIC Program (7 CFR part 246) require that certain Program-related information be collected and that full and complete records concerning WIC operations are maintained. The information reporting and recordkeeping burdens are necessary to ensure appropriate and efficient management of the WIC Program.

The reporting and recordkeeping burdens covered by this Information Collection Burden (ICB) include requirements that involve the certification of WIC participants; the nutrition education that is provided to participants; the authorization, training and monitoring of vendors; and the collection of vendor pricing information in order to comply with the Federal regulations regarding WIC cost containment. State Plans are the principal source of information about how each State agency operates its WIC Program. Information collected from participants and local agencies is collected through State-developed forms or Management Information Systems. The information collected is used by the Department of Agriculture to manage, plan, evaluate, make decisions and report on WIC Program operations. This information collection is requesting a revision in the burden hours due to program changes that have reduced the frequency of certification requirements for children and due to program adjustments that primarily reflect expected changes in the number of WIC participants, WIC authorized vendors, and WIC local agencies. The revisions increase approved reporting burden by 42,215 hours and increase the total approved recordkeeping burden by 372,489 hours.

Reporting Burden

Affected Public: State, Local and Tribal Government; Individual/Households; and Business or Other for Profit.

Estimated Number of Respondents: 9,011,137 respondents.

Estimated Number of Responses per Respondent: 2.79 responses.

Estimated Total Annual Responses: 25,126,069.

Estimate of Time per Respondent: .13 hours.

Estimated Total Annual Reporting Burden Hours: 3,328,939 hours.

Current OMB Inventory: 3,286,724.

Difference (Burden Revisions Requested): 42,215.

Recordkeeping Burden

Estimated Number of Recordkeepers: 11,929.

Estimated number of records: 3,011.

Total estimated annual records: 35,919,470.

Estimated annual hours per recordkeeper: .02 hours.

Estimated Total Recordkeeping Burden Hours: 695,758 hours.

Current OMB Inventory: 323,269.

Difference (Burden Revisions Requested): 372,489.

Estimated Grand Total for Reporting and Recordkeeping Burden: 4,024,697 hours.

Affected Public: State, Local and Tribal Government, Business-for and Not-for-Profit WIC Program Regulations—Reporting Burden
Type of respondent | Total number estimated number of respondents (responses) | Frequency of response per respondent | Total estimated annual responses | Estimated time (hours) to complete each application | Estimated burden hours
STATE, LOCAL & INDIAN TRIBAL GOVERNMENTS (90 WIC State agencies; 1,839 WIC local agencies) | 1,929 | 6,531 | 12,598,157 | .2 | 2,516,924
BUSINESS OR OTHER FOR-PROFIT (48,621 WIC authorized vendors) | 48,621 | 2.23 | 108,302 | 1.77 | 191,987
INDIVIDUAL/HOUSEHOLDS (8,960,587 WIC participants) | 8,960,587 | 1.39 | 12,419,611 | .05 | 620,028
TOTAL | 9,011,137 |  | 25,126,069 |  | 3,328,939

WIC Program Regulations—Recordkeeping Burden
Type of respondent | Estimated number recordkeepers | Estimated number of records | Total estimated annual records | Estimated time (hours) | Estimated burden hours
STATE, LOCAL & INDIAN TRIBAL GOVERNMENTS (90 WIC State agencies; 1,839 WIC local agencies, 10,000 clinics) | 11,929 | 3,011 | 35,919,470 | .02 | 695,758

Dated: August 13, 2012.
Audrey Rowe,
Administrator, Food and Nutrition Service.

[FR Doc. 2012-20435 Filed 8-20-12; 8:45 am]

BILLING CODE 3410-30-P